DEPARTMENT OF THE INTERIOR

National Park Service

Notice of Meeting

AGENCY: National Park Service, Interior.

ACTION: Notice of meeting for the Denali National Park and Preserve Aircraft Overflights Advisory Council within the Alaska Region.

SUMMARY: The National Park Service (NPS) announces a meeting of the Denali National Park and Preserve Aircraft Overflights Advisory Council. The purpose of this meeting is to discuss mitigation of impacts from aircraft overflights at Denali National Park and Perserve. This meeting is open to the public and will have time allocated for public testimony. The public is welcomed to present written or oral comments. The meeting will be recorded and a summary will be available upon request from the Superintendent for public inspection approximately six weeks after each meeting. The Aircraft Overflights Advisory Council is authorized to operate in accordance with the provisions of the Federal Advisory Committee Act.

DATES: The Denali National Park and Preserve Aircraft Overflights Advisory Council meeting will be held on Thursday, February 7, 2008, from 1 p.m. to 4 p.m., Alaska Standard Time. The meeting may end early if all business is completed.

Location: Best Western Lake Lucille Inn, Frontier Room, 1300 West Lake Lucille Drive, Wasilla, Alaska 99654. Telephone: (907) 373-1776.

FOR FURTHER INFORMATION CONTACT: Mike Tranel, Chief of Planning. E-mail: Mike_Tranel@nps.gov. Telephone: (907) 644-3611 at National Park Service, Denali Planning, 240 W. 5th Avenue, Anchorage, AK 99501.

SUPPLEMENTARY INFORMATION: Meeting location and dates may need to be changed based on weather or local circumstances. If the meeting dates and location are changed, notice of the new meeting will be announced on local radio stations and published in local newspapers.

The agenda for the meeting will include the following, subject to minor adjustments:

1. Call to order.

2. Roll Call and Confirmation of Quorums.

3. Superintendent's Welcome and Introductions.

4. Review and Approve Agenda.

5. Status of Membership.

6. Member Reports.

7. Superintendent and NPS Staff Reports.

8. Setting Priorities for Advisory Council Work.

9. Discussion of Mitigation Actions for 2008.

10. Other New Business.

11. Agency and Public Comments.

12. Advisory Council Work Session.

13. Set time and place of next Advisory Council meeting.

14. Adjournment.

Dated: November 16, 2007.
Marcia Blaszak,
Regional Director, Alaska Region, National Park Service.

[FR Doc. 07-6052 Filed 12-13-07; 8:45 am]

BILLING CODE 4310-PF-M